DEPARTMENT OF DEFENSE

Department of the Army

Draft Environmental Impact Statement for Clinton District Area Development, U.S. Army Garrison West Point, New York

AGENCY: Department of the Army, DoD.

ACTION: Notice of intent.

SUMMARY: Pursuant to Section 102(2)(c) of the National Environmental Policy Act of 1969 (NEPA), as implemented by the Council on Environmental Quality Regulations (40 CFR parts 1500-1508), the Department of the Army (Army) announces its intent to conduct public scoping to gather information to prepare an Environmental Impact Statement (EIS) for implementing the Clinton District Area Development Plan (Clinton District ADP) at U.S. Army Garrison West Point (USAG West Point), New York. USAG West Point is home to the U.S. Military Academy (USMA), the U.S. Army's preeminent leader development institution. The EIS will evaluate the environmental impacts from implementing the Clinton District ADP.

DATES: Comments must be received by November 23, 2020.

ADDRESSES: Please send written comments about the scope of the EIS and questions concerning the proposed action to: Mr. Christopher Pray, U.S. Army Garrison, West Point, NEPA Coordinator, P.O. Box 102, West Point, NY 10996. Comments may also be provided via email to: WestpointClinton-ADPEIS@usace.army.mil.

FOR FURTHER INFORMATION CONTACT: Mr. Christopher Pray, U.S. Army Garrison West Point, NEPA Coordinator, IMML-PWE, Building 667, Ruger Road, West Point, NY 10996, Christopher Pray at (845) 938-7122 or by email at Christopher.c.pray.civ@mail.mil.

SUPPLEMENTARY INFORMATION: The purpose and need for the proposed action (implementation of the Clinton District ADP) is to provide improvements and effective long-term management of installation facilities and infrastructure within the Clinton District so that USMA can continue to improve its offerings to meet evolving educational standards concurrent with its goal of training its Corps of Cadets as future leaders in the defense of the nation and its core values. These improvements are necessary to satisfy these high standards while maintaining the visual character of the historic landscape in and around USAG West Point. The Clinton District comprises the main campus of USMA, and this ADP is one of seven separate ADPs in the USAG West Point Real Property Master Plan (RPMP), which addresses the effective long-term management of installation facilities and infrastructure through a comprehensive and collaborative planning process. The Clinton District is the most sensitive area at USAG West Point due to its location within the USMA National Historic Landmark District, and it encompasses historic buildings and structures, archeological sites, and historic landscapes. The Clinton District ADP is a critical component of the RPMP because it is home to USMA's academic core. It contains the majority of the academic, athletic, and waterfront areas, and includes such prominent sites as Trophy Point, West Point Cemetery, Eisenhower Hall, and The Plain.

The implementation of the projects proposed in the ADP would allow improvements and effective long-term management of installation facilities and infrastructure within the Clinton District. USMA needs to continue improving its infrastructure while observing the constraints of its physical location and protecting its cultural and natural resources. The ADP analyses several projects that are to be built, renovated, or reorganized to meet the needs of providing modern structures for the training of its Corps of Cadets as future leaders.

The Clinton District ADP includes the short-, mid-, and long-range components of development. It reflects ongoing projects previously considered under NEPA as well as potential future development opportunities at USAG West Point. These components are at different developmental stages with some under way and others at the conceptual level. One of the short-range components is the proposed construction and operation of the Humanities Center at Trophy Point. The EIS will consider the implementation of the Clinton District ADP relative to the various components, depending on their developmental stages. Components that are further along in development such as the Humanities Center will be evaluated in detail while components at conceptual stages will be evaluated at a programmatic level in the EIS. For those potential future development opportunities evaluated in the EIS at a programmatic level, the Army will ensure that appropriate NEPA review is completed at the time when the components reach the stage ripe for specific decision-making.

The EIS will analyze the alternatives of full implementation of proposed projects in the Clinton District ADP, implementation of the Clinton District ADP without the revitalization of Trophy Point and the Humanities Center, and a No Action Alternative. The EIS will also evaluate the effects of the proposed action and past, present, and reasonably foreseeable future actions. There may be significant impacts to historic properties, including the visual historic component. Other potential impacts may occur on land use, biological aspects, and water resources. Construction activities may cause traffic, noise, and air quality impacts. Consultation with the State Historic Preservation Office will be required. Permitting actions for construction, air emissions, and storm water pollution prevention may be required.

A tentative schedule has been developed for this EIS. The scoping meeting is anticipated to be held in October of 2020. The Draft EIS and subsequent public meeting will occur in the summer of 2021. The Final EIS is anticipated to be solicited in October of 2022 with the Record of Decision to be issued in November of 2022. The EIS is estimated to be signed and completed in December of 2022.

Native American Tribes; Federal, state, and local agencies; organizations; special interest groups; and individuals are invited to be involved in the scoping process for the preparation of this EIS by participating in the scoping meetings and/or submitting written comments to assist with identifying alternatives or providing information to inform the analysis. Due to the COVID-19 Pandemic and the need to maintain social distancing, all public meeting materials will be provided online, and the public meeting will be hosted by telephone. The meeting materials can be found at https://www.nan.usace.army.mil/Missions/Environmental/Environmental-Assessment/Clinton-Area-Development-Plan/. Interested parties will also be invited to attend two public telephone meetings scheduled for October 29, 2020. The phone number and passcode for both meetings is 1-877-229-8493 and 119890. The first meeting will be from 2:00 p.m. to 4:00 p.m., and the second meeting will be from 6:00 p.m. to 8:00 p.m. If you cannot access the scoping materials online, please submit a request for the scoping materials to: Mr. Chris Pray, U.S. Army Garrison West Point, NEPA Coordinator, by phone (845) 938-7122 or mail P.O. Box 102, West Point, NY 10996. Mail must be postmarked not later than October 26, 2020 so the meeting materials can be sent by United States Postal Service. Written comments must be received within 45 days of publication in the Federal Register and can be mailed to see ADRESSES or emailed to: WestpointClinton-ADPEIS@usace.army.mil. Notification of the public telephone meetings will be announced in the local news media and on the US Army Corps of Engineers New York District website at: https://www.nan.usace.army.mil/Missions/Environmental/Environmental-Assessment/Clinton-Area-Development-Plan/.

James W. Satterwhite Jr.,
Alternate Army Federal Register Liaison Officer.

[FR Doc. 2020-22369 Filed 10-8-20; 8:45 am]

BILLING CODE 5061-AP-P